DEPARTMENT OF LABOR

Occupational Safety and Health Administration

29 CFR Part 1910

[Docket No. OSHA-2011-0183]

RIN 1218-AC64

Revising Standards Referenced in the Acetylene Standard

AGENCY: Occupational Safety and Health Administration (OSHA), Department of Labor.

ACTION: Final rule; confirmation of effective date.

SUMMARY: OSHA is confirming the effective date of its direct final rule that revises the Acetylene Standard for general industry by updating the reference to a standard published by a standards-developing organization, the Compressed Gas Association. In the December 5, 2011, direct final rule, OSHA stated that it would withdraw the companion proposed rule and confirm the effective date of the direct final rule if the Agency received no significant adverse comments. OSHA did not receive significant adverse comments on the direct final rule. Therefore, OSHA is confirming that the direct final rule will become effective on March 5, 2012.

DATES: The direct final rule published on December 5, 2011 (76 FR 75782), is effective on March 5, 2012. For the purposes of judicial review, OSHA considers March 5, 2012, as the date of issuance.

FOR FURTHER INFORMATION CONTACT: General information and press inquiries: Contact Frank Meilinger, Director, OSHA Office of Communications, Room N-3647, U.S. Department of Labor, 200 Constitution Avenue NW., Washington, DC 20210; telephone: (202) 693-1999.

Technical information: Contact Ken Stevanus, Directorate of Standards and Guidance, Room N-3609, OSHA, U.S. Department of Labor, 200 Constitution Avenue NW., Washington, DC 20210; telephone: (202) 693-2260; fax: (202) 693-1663.

Copies of this Federal Register notice. Electronic copies of this Federal Register notice are available at http://www.regulations.gov. This Federal Register notice, as well as news releases and other relevant information, also is available at OSHA's Web page at http://www.osha.gov.

ADDRESSES: In compliance with 28 U.S.C. 2112(a), OSHA designates the Associate Solicitor of Labor for Occupational Safety and Health as the recipient of petitions for review of the final standard. Contact Joseph M. Woodward, Associate Solicitor at the Office of the Solicitor, Room S-4004, U.S. Department of Labor, 200 Constitution Avenue NW., Washington, DC 20210; telephone: (202) 693-5445.

SUPPLEMENTARY INFORMATION: On December 5, 2011, OSHA published a direct final rule (DFR) in the Federal Register that revised the Acetylene Standard for general industry by updating a reference to the Compressed Gas Association (GGA) acetylene standard (see 76 FR 75782). In the DFR, OSHA deleted reference to CGA G-1-2003 and replaced it with CGA G-1-2009. In that Federal Register document, OSHA also stated that it would confirm the effective date of the DFR if the Agency received no significant adverse comments.

OSHA received one comment on the DFR, which it determined was not a significant adverse comment. The commenter observed differences between provisions of the most recent Compressed Gas Association acetylene standard (CGA G-1-2009) and provisions of OSHA's oxygen-fuel gas welding and cutting standard at 29 CFR 1910.253. After describing the differences, the commenter stated that “the rulemaking process should include an assessment of how other existing OSHA Rules may be affected by the new or amended rule.” However, the commenter did not object to the revised provisions adopted by the CGA G-1-2009 standard that are the subject of this rulemaking. Therefore, the Agency determined that this comment was neither significant nor adverse.

List of Subjects in 29 CFR Part 1910

Acetylene, General industry, Occupational safety and health, Safety.

Authority and Signature

David Michaels, Ph.D., MPH, Assistant Secretary of Labor for Occupational Safety and Health, U.S. Department of Labor, 200 Constitution Avenue NW., Washington, DC 20210, authorized the preparation of this final rule. OSHA is issuing this final rule pursuant to Sections 4, 6, and 8 of the Occupational Safety and Health Act of 1970 (29 U.S.C. 653, 655, and 657), 5 U.S.C. 553, Secretary of Labor's Order 1-2012 (77 FR 3912), and 29 CFR part 1911.

Signed at Washington, DC on March 2, 2012.
David Michaels,
Assistant Secretary of Labor for Occupational Safety and Health.

[FR Doc. 2012-5589 Filed 3-7-12; 8:45 am]

BILLING CODE 4510-26-P